DEPARTMENT OF STATE

[Public Notice: 8044]

2014 Diversity Immigrant Visa Program

AGENCY: Department of State.

ACTION: Notice.

SUMMARY: This public notice provides information on how to apply for the DV-2014 Program.

Instructions for the 2014 Diversity Immigrant Visa Program (DV-2014)

This notice is issued pursuant to 22 CFR 42.33(b)(3) which implements sections 201(a)(3), 201(e), 203(c), and 204(a)(1)(I) of the Immigration and Nationality Act, as amended, (8 U.S.C. 1151, 1153, and 1154(a)(1)(I)).

The congressionally mandated Diversity Immigrant Visa Program is administered on an annual basis by the Department of State and conducted based on United States law, specifically Section 203(c) of the Immigration and Nationality Act (INA). This law provides for a class of immigrants known as “diversity immigrants,” with visas made available to persons from countries with historically low rates of immigration to the United States. For Fiscal Year 2014, 50,000 diversity visas (DV) will be available.

The annual DV program makes visas available to persons meeting simple, but strict, eligibility requirements. A computer-generated, random drawing chooses selectees for DVs. The visas are distributed among six geographic regions, and within each region, no single country may receive more than seven percent of the available DVs in any one year. Visas are allocated to natives of countries with historically lower rates of U.S. immigration. Natives of countries who have sent more than 50,000 immigrants to the United States over the past five years are not eligible to apply for the Diversity Visa program.

For DV-2014, natives of the following countries are not eligible to apply because the countries sent a total of more than 50,000 immigrants to the United States in the previous five years:

Bangladesh, Brazil, Canada, China (mainland-born), Colombia, Dominican Republic, Ecuador, El Salvador, Haiti, India, Jamaica, Mexico, Pakistan, Peru, Philippines, South Korea, United Kingdom (except Northern Ireland) and its dependent territories, and Vietnam.

The term “country” in this notice includes countries, economies, and other jurisdictions explicitly listed at the end of these instructions. Persons born in Hong Kong SAR, Macau SAR, and Taiwan are eligible.

Changes in eligibility this year:

For DV-2014, natives of Guatemala are now eligible for selection.

The Department of State implemented the electronic registration system beginning with DV-2005 in order to make the DV process more efficient and secure. The Department utilizes special technology and other means to identify those who commit fraud for the purposes of illegal immigration or those who submit multiple entries.

Diversity Visa Registration Period

Entries for the DV-2014 DV program must be submitted electronically between noon, Eastern Daylight Time (EDT) (GMT-4), Tuesday, October 2, 2012, and noon, Eastern Daylight Time (EDT) (GMT-4), Saturday, November 3, 2012. Applicants may access the electronic DV Entry Form (E-DV) at www.dvlottery.state.gov during the registration period. Paper entries will not be accepted. We strongly encourage applicants not to wait until the last week of the registration period to enter. Heavy demand may result in Web site delays. No entries will be accepted after noon, EDT, on November 3, 2012.

Requirements for Entry

To enter the DV program, you must be a native of one of the listed countries. In most cases, this means the country in which you were born. However, there are two other ways you may be able to qualify. First, if you were born in a country whose natives are ineligible but your spouse was born in a country whose natives are eligible, you can claim your spouse's country of birth—provided that both you and your spouse are on the selected entry, are issued visas, and enter the United States simultaneously. Second, if you were born in a country whose natives are ineligible, but neither of your parents was born there or resided there at the time of your birth, you may claim nativity in one of your parents' countries of birth if it is a country whose natives qualify for the DV-2014 program.

To enter the DV program, you must meet either the education or work experience requirement of the DV program: You must have either a high school education or its equivalent, defined as successful completion of a 12-year course of elementary and secondary education; OR two years of work experience within the past five years in an occupation requiring at least two years of training or experience to perform. The U.S. Department of Labor's O*Net OnLine database will be used to determine qualifying work experience. For more information about qualifying work experience for the principal DV applicant, see Frequently Asked Question #13.

If you cannot meet either of these requirements, you should not submit an entry to the DV program.

Procedures for Submitting an Entry to DV-2014

The Department of State will only accept completed E-DV entry forms submitted electronically at www.dvlottery.state.gov during the registration period between noon, EDT (GMT-4), Tuesday, October 2, 2012, and noon, EDT (GMT-4), Saturday, November 3, 2012.

All entries by an individual will be disqualified if more than one entry for that individual is received, regardless of who submitted the entry. You may prepare and submit your own entry or have someone submit the entry for you. There are no costs or fees to register for the DV Program.

A registered entry that complies with submission instructions will result in a confirmation screen containing your name and a unique confirmation number. You must print this confirmation screen for your records using the print function of your web browser and ensure that you retain your confirmation number. Starting May 1, 2013, you will be able to check the status of your DV-2014 entry by returning to www.dvlottery.state.gov, clicking on Entrant Status Check, and entering your unique confirmation number and personal information. Entrant Status Check will be the sole means of informing you of your selection for DV-2014, providing instructions to you on how to proceed with your application, and notifying you of your appointment for your immigrant visa interview. Therefore, it is essential you retain your confirmation number.

Paper entries are no longer accepted. The sole method for entry to the 2014 Diversity Visa Program is through this electronic process.

On your entry, you must list your spouse (husband or wife), and all living unmarried children under 21 years of age, regardless of whether or not they are living with you or intend to accompany or follow to join you should you immigrate to the United States, with the exception of children who are already U.S. citizens or Lawful Permanent Residents. A spouse or child who is already a U.S. citizen or a Lawful Permanent Resident will not require or be issued a DV visa. Failure to comply with this instruction can result in the disqualification of your entry.

It is very important that you submit all required photographs. Your entry will be disqualified if you do not submit all the required photographs. Recent photographs of the following people must be submitted electronically with the E-DV entry form:

You

Your spouse

Each living unmarried child under 21 years of age at the time of your electronic entry, including all natural children as well as all legally adopted children and stepchildren, even if a child no longer resides with you or you do not intend for a child to immigrate under the DV program. You do not need to include a photograph for a spouse or child who is already a U.S. citizen or a Lawful Permanent Resident.

Failure to submit the required photographs for your spouse and each child listed will result in an incomplete entry to the E-DV system. The entry will not be accepted and must be resubmitted. Group or family photographs will not be accepted; there must be a separate photograph for each family member.

Failure to enter the correct photograph of each individual into the E-DV system may result in disqualification of the principal applicant and refusal of all visas associated with the case at the time of the visa interview. Entries are subject to disqualification and visa refusal for cases in which the photographs are not recent, show manipulation in any way, or fail to meet the specifications explained below.

Instructions for Submitting a Digital Photograph (Image)

A digital photograph (image) of you, your spouse, and each child must be submitted online with the E-DV entry form. The image file can be produced either by taking a new digital photograph or by scanning a photographic print with a digital scanner. The image file must adhere to the compositional and technical specifications listed below. Entrants may test their photos for suitability through the photo validation link on the e-DV Web site before submitting their entries. The photo validation provides additional technical advice on photo composition, along with examples of acceptable and unacceptable photos.

Compositional Specifications

The submitted digital image must conform to the following compositional specifications or the entry will be disqualified.

Head Position. The person being photographed must directly face the camera. The head of the person should not be tilted up, down, or to the side. The head height or facial region size (measured from the top of the head, including the hair, to the bottom of the chin) must be between 50 percent and 69 percent of the image's total height. The eye height (measured from the bottom of the image to the level of the eyes) should be between 56 percent and 69 percent of the image's height.

Background. The person being photographed should be in front of a neutral, light-colored background. Dark or patterned backgrounds are not acceptable.

Focus. The photograph must be in focus.

Decorative Items. Photographs in which the person being photographed is wearing sunglasses or other items that detract from the face will not be accepted.

Head Coverings and Hats. Photos of applicants wearing head coverings or hats are only acceptable if the head covering is worn for religious beliefs; even then, the head covering may not obscure any portion of the face of the applicant. Photographs of applicants with tribal or other headgear not specifically religious in nature will not be accepted; photographs of military, airline, or other personnel wearing hats will not be accepted.

Color photographs in 24-bit color depth are required. Color photographs may be downloaded from a camera to a file in the computer or they may be scanned onto a computer. If you are using a scanner, the settings must be for True Color or 24-bit color mode. See the additional scanning requirements below.

Technical Specifications

The submitted digital photograph must conform to the following specifications or the system will automatically reject the E-DV entry form and notify the sender.

Taking a New Digital Image. If a new digital image is taken, it must meet the following specifications:

Image File Format: The image must be in the Joint Photographic Experts Group (JPEG) format.

Image File Size: The maximum file size is 240 kilobytes (240 KB).

Image Resolution and Dimensions: Minimum acceptable dimensions are 600 pixels (width) x 600 pixels (height). Image pixel dimensions must be in a square aspect ratio (meaning the height must be equal to the width).

Image Color Depth: Image must be in color (24 bits per pixel). 24-bit black and white or 8-bit images will not be accepted.

Scanning a Submitted Photograph. Before a photographic print is scanned, it must meet the compositional specifications listed above. If the photographic print meets the print color and compositional specifications, scan the print using the following scanner specifications:

Scanner Resolution: Scanned at a resolution of at least 300 dots per inch (dpi).

Image File Format: The image must be in the Joint Photographic Experts Group (JPEG) format.

Image File Size: The maximum image file size is 240 kilobytes (240 KB).

Image Resolution: 600 by 600 pixels.

Image Color Depth: 24-bit color. [Note that black and white, monochrome, or grayscale images will not be accepted.]

Information Required for the Electronic Entry

There is only one way to enter the DV-2014 program. You must submit the DS-5501, the Electronic Diversity Visa Entry Form (E-DV Entry Form), which is only accessible online at the EDV Web site www.dvlottery.state.gov. Failure to complete the form in its entirety will disqualify the entry. Those who submit the E-DV entry will be asked to include the information below on the E-DV Entry Form.

Notice: The Department of State strongly encourages applicants to complete the entry form without the assistance of “Visa Consultants,” “Visa Agents,” or other individuals who offer to submit an entry on behalf of applicants. If somebody else (a third-party) helps you to complete your entry form, you should be present when the entry is prepared so that you can retain the confirmation page and your unique confirmation number. Facilitators may try to withhold confirmation numbers in order to make an unlawful demand for money or services in exchange for notification information that should have been directly available to you.

Reminder: Your unique confirmation number from your DV-2014 online entry registration is required for you to later access the E-DV Web site. You will need to access the E-DV Web site (www.dvlottery.state.gov) after May 1, 2013, to determine whether or not your entry has been selected through the Entrant Status Check. Entrant Status Check will be the sole means of informing you of your selection for DV-2014. It will provide instructions to you on how to proceed with your application and notify you of the date and time of your immigrant visa interview. If you do not have your confirmation information, you will not be able to check your DV entry status.

1. Full Name—Last/Family Name, First Name, Middle name. Enter your name exactly as listed on your passport.

2. Date of Birth—Day, Month, Year.

3. Gender—Male or Female.

4. City Where You Were Born.

5. Country Where You Were Born—The name of the country should be is the one currently in use for the place where you were born.

6. Country of Eligibility or Chargeability for the DV Program—Your country of eligibility will normally be the same as your country of birth. Your country of eligibility is not related to where you live. If you were born in a country that is not eligible for the DV program, please review the instructions to see if there is another option for country chargeability available for you. For additional information on chargeability, please review “Frequently Asked Question #1” of these instructions.

7. Entry Photograph(S)—See the technical information on photograph specifications. Make sure you include photographs of your spouse and all your children, if applicable. See Frequently Asked Question #3.

8. Mailing Address—In Care Of, Address Line 1, Address Line 2, City/Town, District/Country/Province/State, Postal Code/Zip Code, and Country.

9. Country Where You Live Today.

10. Phone Number (optional).

11. E-Mail Address—Provide an email address to which you have direct access. You will not receive an official selection letter at this address. However, if your entry is selected and you respond to the notification of your selection through the Entrant Status Check, you will receive follow-up communication from the Department of State by email notifying you that details of your immigrant visa interview are available on Entrant Status Check. The Department of State may contact you at this email address, but will never send you an email telling you that you have been selected for the DV program.

12. What Is the Highest Level of Education You Have Achieved, As of Today? You must indicate which one of the following represents your own highest level of educational achievement: (1) Primary school only, (2) High school, no degree, (3) High school degree, (4) Vocational school, (5) Some university courses, (6) University degree, (7) Some graduate level courses, (8) Masters degree, (9) Some doctorate level courses, and (10) Doctorate degree.

13. Marital Status—Unmarried, Married, Divorced, Widowed, or Legally Separated.

14. Number of Children—Entries must include the name, date, and place of birth of your spouse and all living natural children. Entries must also include all living children legally adopted by you, and living step-children who are unmarried and under the age of 21 on the date of your electronic entry, even if you are no longer legally married to the child's parent, and even if the spouse or child does not currently reside with you and/or will not immigrate with you. Note that married children and children 21 years or older are not eligible for the DV; however, U.S. law protects children from “aging out” in certain circumstances. If your DV entry is made before your unmarried child turns 21, and the child turns 21 before visa issuance, he/she may be protected from aging out by the Child Status Protection Act and be treated as though he/she were fewer than 21 for visa-processing purposes. You are not required to list a spouse or child who is already a U.S. citizen or a Lawful Permanent Resident, as they will not be eligible for a DV visa. Failure to list all children who are eligible will result in disqualification of the principal applicant and refusal of all visas in the case at the time of the visa interview. See Frequently Asked Question #11.

15. Spouse Information—Name, Date of Birth, Gender, City/Town of Birth, Country of Birth, and Photograph. Failure to list your eligible spouse will result in disqualification of the principal applicant and refusal of all visas in the case at the time of the visa interview. You must list your spouse here even if you plan to be divorced before you apply for a visa.

16. Children Information—Name, Date of Birth, Gender, City/Town of Birth, Country of Birth, and Photograph. Include all children declared in question #14 above.

Selection of Applicants

Based on the allocations of available visas in each region and country, computer software will randomly select individuals from among qualified entries. All DV-2014 entrants will be required to go to the E-DV Web site Entrant Status Check using the unique confirmation number saved from their DV-2014 online entry registration to find out whether their entry has been selected in the DV program. Entrant Status Check will be available on the E-DV Web site at www.dvlottery.state.gov starting May 1, 2013, and continuing through at least June 30, 2014. Selectees will be directed to a confirmation page that will provide further instructions, including information on fees connected with immigration to the United States. Entrant Status Check will be the only means by which selectees will be notified of their selection for DV-2014. The Department of State will not be mailing out notification letters. Those selected in the random drawing are not notified of their selection by email. Those individuals not selected will be notified of their non-selection through Entrant Status Check. U.S. embassies and consulates will not provide a list of selectees. Selectees' spouses and unmarried children under age 21 may also apply for visas to accompany or follow-to-join the principal applicant. DV-2014 visas will be issued between October 1, 2013, and September 30, 2014.

Processing of entries and issuance of DVs to selectees meeting eligibility requirements and their eligible family members must be completed by midnight on September 30, 2014. Under no circumstances can DVs be issued or adjustments approved after this date, nor can family members obtain DVs to follow-to-join the principal applicant in the United States after this date.

In order to receive a DV to immigrate to the United States, entrants in the random drawing that are selected for the next steps (called selectees) must meet all eligibility requirements under U.S. law. These requirements may significantly increase the level of scrutiny required and time necessary for processing for natives of some countries listed in this notice including, but not limited to, countries identified as state sponsors of terrorism.

Important Notice

Electronic Online Entry In the Annual DV Program Is Free. The State Department does not charge any fees to enter. The U.S. government employs no outside consultants or private services to operate the DV program. Any intermediaries or others who offer assistance to prepare DV entries do so without the authority or consent of the U.S. government. Use of any outside intermediary or assistance to prepare a DV entry is entirely at the entrant's discretion. The only Web site on which people can officially register to participation in the Diversity Program is www.dvlottery.state.gov.

A qualified electronic entry submitted directly by an applicant has an equal chance of being randomly selected by computer, as does a qualified electronic entry received from an outside intermediary on behalf of the applicant. However, receipt of more than one entry per person will disqualify the person from registration, regardless of the source of the entry.

Frequently Asked Questions

1. What do the terms “eligibility,” “native,” and “chargeability” mean? Are there any situations in which persons who were not born in a qualifying country may apply?

Your country of eligibility will normally be the same as your country of birth. Your country of eligibility is not related to where you live. “Native” ordinarily means someone born in a particular country, regardless of the individual's current country of residence or nationality. For immigration purposes, “native” can also mean someone who is entitled to be “charged” to a country other than the one in which he/she was born under the provisions of Section 202(b) of the Immigration and Nationality Act.

For example, if you were born in a country that is not eligible for this year's DV program, you may claim chargeability to the country where your derivative spouse was born. Because your eligibility is based on your spouse, however, you will not be issued a DV-1 immigrant visa unless your spouse is also eligible for and issued a DV-2 visa, and both of you must enter the United States together using your DVs. In a similar manner, a minor dependent child can be “charged” to a parent's country of birth.

Finally, if you were born in a country not eligible to participate in this year's DV program, you can be “charged” to the country of birth of either of your parents as long as neither parent was a resident of the ineligible country at the time of your birth. In general, people are not considered residents of a country in which they were not born or legally naturalized, if they are only visiting the country, studying in the country temporarily, or stationed temporarily in the country for business or professional reasons on behalf of a company or government from a country other than the country in which the applicant was born. If you claim alternate chargeability, you must indicate such information on the E-DV Entry Form, in question #6. Please be aware that listing an incorrect country of eligibility or chargeability (i.e., one to which you cannot establish a valid claim) may disqualify your entry.

2. How will I know if the notification of selection that I have received is authentic? How can I confirm that I have in fact been chosen in the random DV program?

Keep your confirmation page from the online registration entry submission until at least June 2014. You must have your confirmation number to access information through the Entrant Status Check available on the E-DV Web site at www.dvlottery.state.gov. Entrant Status Check will be the sole means by which DV-2014 entrants are notified of their selection, provided instructions on how to proceed with their application, and notified of their immigrant visa interview appointment date and time. Be advised that the E-DV Web site www.dvlottery.state.gov is the only authorized Department of State Web site for official online entry, as well as the required online status check for the Diversity Visa Program.

Status information will be available starting May 1, 2013 through at least June 30, 2014. You must have your confirmation information in order to check your DV entry status. Only the individuals selected randomly to continue the visa process will be given additional instructions on how to pursue their DV visa application. Persons not selected may verify the non-selection of their entry using their confirmation information through the official DV Web site, but they will not receive any additional instructions. U.S. Embassies and Consulates have no access to the Entrant Status check system; they are unable to check the system for you. The Department of State is not able to provide a list of those selected to continue the visa process.

Randomly selected entrants will receive notification instructions for the DV visa application process on the selectee confirmation page available through Entrant Status Check on the E-DV Web site www.dvlottery.state.gov. The instructions say the selected applicants will pay all DV and immigrant visa fees in person only at the U.S. Embassy or Consulate at the time of the visa application. The consular cashier immediately gives the visa applicant a U.S. government receipt for payment. Selected applicants applying for an immigrant visa at a U.S. Embassy or Consulate should never send money for DV fees through the mail, Western Union, or any other delivery service. Those selectees who are already present in the United States and who file for adjustment of status will receive separate instructions on how to mail DV fees to a U.S. bank.

The E-DV program entries are submitted on the Internet, on the official U.S. government E-DV Web site at www.dvlottery.state.gov. Notification letters will not be sent to the selected applicants. The U.S. government has never sent emails to notify individuals that they have been selected, and there are no plans to use email for this purpose for the DV-2014 program. Selectees will only receive email communications alerting them that a visa appointment has been scheduled after they have responded to the notification instructions on Entrant Status Check. Such emails will direct selectees to check their interview appointment details on Entrant Status Check and will not contain information on the actual appointment date and time.

Please note that only Internet sites that end with the “.gov” domain suffix are official U.S. government Web sites. Many other non-governmental Web sites (e.g., using the suffixes “.com,” “.org,” or “.net”) provide immigration and visa related information and services. Regardless of the content of non-governmental Web sites, the Department of State does not endorse, recommend, or sponsor any information or material shown at these other Web sites.

Some Web sites try to mislead customers and members of the public into thinking they are official Web sites and may contact you by email to lure you to their offers. These Web sites may attempt to require you to pay for services such as forms and information about immigration procedures, which are free on the Department of State Web site or through U.S. Embassy or Consulate Web sites. Additionally, these other Web sites may require you to pay for services you are not likely to receive (such as fees for DV immigration applications and visas) in an effort to steal your money. If you send in money to one of these scams, you will likely never see it again. Also, you should be wary of sending any personal information to these Web sites, as it may be used for identity fraud/theft.

3. Why do natives of certain countries not qualify for the DV program?

DVs are intended to provide an immigration opportunity for persons from countries other than the historical source countries of large numbers of immigrants to the United States, as indicated in the law by stating that no Diversity Visas shall be provided for natives of “high-admission” countries. The law defines this to mean countries from which a total of 50,000 persons in the Family-Sponsored and Employment-Based visa categories immigrated to the United States during the previous five years. Each year, U.S. Citizenship and Immigration Services (USCIS) adds the family and employment immigrant admission figures for the previous five years to identify the countries whose natives will be ineligible for the annual diversity visa program. Since there is a separate determination made before each annual E-DV entry period, the list of countries whose natives are not eligible may change from one year to the next.

4. What is the numerical limit for DV-2014?

By law, the DV program makes available a maximum of 55,000 permanent residence visas each year to eligible persons. However, the Nicaraguan Adjustment and Central American Relief Act (NACARA) passed by Congress in November 1997 stipulates that beginning as early as DV-1999, and for as long as necessary, up to 5,000 of the 55,000 annually allocated DVs will be made available for use under the NACARA program. The actual reduction of the limit by up to 5,000 DVs began with DV-2000 and will remain in effect through the DV-2014 program.

5. What are the regional DV limits for DV-2014?

United States Citizenship and Immigration Services (USCIS) determines the regional DV limits for each year according to a formula specified in Section 203(c) of the INA. Once USCIS has completed these calculations, the regional visa limits will be announced.

6. When will entries for the DV-2014 program be accepted?

The DV-2014 entry period will run from noon, Eastern Daylight Time (EDT) (GMT-4), Tuesday, October 2, 2012, until noon, Eastern Daylight Time (EDT) (GMT-4), Saturday, November 3, 2012. Each year, millions of people apply for the program during the registration period. The massive volume of entries creates an enormous amount of work in selecting and processing successful individuals. Holding the entry period starting noon Eastern Daylight Time (EDT) on October 2 and continuing until noon Eastern Daylight Time (EDT) on November 3 ensures that selectees are notified in a timely manner, and gives both the visa applicants and our embassies and consulates time to prepare and complete cases for visa issuance. You are strongly encouraged to enter early during the registration period. Excessive demand at end of the registration period may slow the system down. No entries whatsoever will be accepted after noon EDT Saturday, November 3, 2012.

7. May persons who are in the United States apply for the program?

Yes, an applicant may be in the United States or in another country, and the entry may be submitted from the United States or from abroad.

8. Is each applicant limited to only one entry during the annual E-DV registration period?

Yes, the law allows only one entry by or for each person during each registration period. Individuals for whom more than one entry is submitted will be disqualified. The Department of State employs technology and other means to identify individuals who submit multiple entries during the registration period. People submitting more than one entry will be disqualified, and an electronic record will be permanently maintained by the Department of State. Individuals may apply for the program once each year during the regular registration period.

9. May a husband and a wife each submit a separate entry?

Yes, a husband and a wife may each submit one entry if each meets the eligibility requirements. If either is selected, the other is entitled to apply as a derivative dependent.

10. What family members must I include on my E-DV entry?

On your entry you must list your spouse (husband or wife) and all living unmarried children less than 21 years of age, regardless of whether or not they are living with you or intend to accompany or follow to join you should you immigrate to the United States. You must list your spouse even if you are currently separated from him/her, unless you are legally separated (i.e., there is a written agreement recognized by a court or a court order). If you are legally separated or divorced, you do not need to list your former spouse. You must list all your living children who are unmarried and under 21 years of age at the time of your initial E-DV entry, whether they are your natural children, your spouse's children, or children you have formally adopted in accordance with the laws of your country, unless such child is already a U.S. citizen or Lawful Permanent Resident. List all children less than 21 years of age at the time of your electronic entry, even if they no longer reside with you or you do not intend for them to immigrate under the DV program. You are not required to list children who are already U.S. citizens or Lawful Permanent Residents.

The fact that you have listed family members on your entry does not mean that they must travel with you. They may choose to remain behind. However, if you include an eligible dependent on your visa application forms that you failed to include on your original entry, your case will be disqualified. This only applies to those who were family members at the time the original application was submitted, not those acquired at a later date. Your spouse may still submit a separate entry, even though he or she is listed on your entry, as long as both entries include details on all dependents in your family. See question #9 above.

11. Can my same-sex spouse be included in a DV entry?

No, same-sex marriages are not recognized under U.S. immigration law for the purpose of immigrating to the United States. However, your same-sex partner is free to submit his/her own entry into the DV program if he or she meets all eligibility requirements.

12. Must I submit my own entry, or may someone act on my behalf?

You may prepare and submit your own entry, or have someone submit the entry for you. Regardless of whether an entry is submitted by the individual directly, or assistance is provided by an attorney, friend, relative, etc., only one entry may be submitted in the name of each person, and the person seeking the Diversity Visa remains responsible for ensuring that information in the entry is correct and complete. All entrants, including those not selected, will be able to check the status of their entry through the Entrant Status Check available as of May 1, 2013, on the E-DV Web site at www.dvlottery.state.gov. Entrants must keep their own confirmation page information so that they are able to independently check the status of their entry.

13. What are the requirements for education or work experience?

U.S. Immigration law and regulations require that every Diversity Visa entrant must have at least a high school education or its equivalent or have two years of work experience within the past five years in an occupation requiring at least two years of training or experience. A “high school education or equivalent” is defined as successful completion of a twelve-year course of elementary and secondary education in the United States or successful completion in another country of a formal course of elementary and secondary education comparable to a high school education in the United States. Only formal courses of study meet this requirement; correspondence programs or equivalency certificates (such as the General Equivalency Diploma (G.E.D.)) are not acceptable. Documentary proof of education or work experience must be presented to the consular officer at the time of the visa interview.

14. What occupations qualify for the DV program?

To determine eligibility based on work experience, definitions from the U.S. Department of Labor's (DOL) O*Net OnLine database will be used. The O*Net Online Database groups job experience into five “job zones.” While many occupations are listed on the DOL Web site, only certain specified occupations qualify for the DV Program. To qualify for a DV on the basis of your work experience, you must have, within the past five years, two years of experience in an occupation that is designated as Job Zone 4 or 5, classified in a Specific Vocational Preparation (SVP) range of 7.0 or higher.

15. How do I find the qualifying occupations on the Department of Labor Web site?

Qualifying DV Occupations are shown on the DOL O*Net Online Database. Follow these steps to find out if your occupation qualifies: Select “Find Occupations” and then select a specific “Job Family.” For example, select Architecture and Engineering and click “GO.” Then click on the link for the specific Occupation. Following the same example, click “Aerospace Engineers.” After selecting a specific Occupation link, select the tab “Job Zone” to find out the designated Job Zone number and Specific Vocational Preparation (SVP) rating range. For additional information, see the Diversity Visa—List of Occupations Web page.

16. How will successful entrants be selected?

All entries received from each region are individually numbered, and at the end of the registration period, a computer system will randomly select entries from among all the entries received for each geographic region. Within each region, the first entry randomly selected will be the first case registered; the second entry selected will be the second case registered etc. All entries received during the registration period will have an equal chance of being selected within each region. When an entry has been selected, the entrant will be notified of his or her selection through the Entrant Status Check available starting May 1, 2013, on the E-DV Web site www.dvlottery.state.gov. The Department of State's Kentucky Consular Center (KCC) will then process the case until those selected to be visa applicants are instructed to appear for visa interviews at a U.S. Embassy or Consulate, or until those qualifying to change status in the United States apply at a domestic USCIS office.

Important Note: Official notifications of selection will be made through Entrant Status Check, available starting May 1, 2013, through at least June 30, 2014, on the E-DV Web site www.dvlottery.state.gov. The Department of State does not send selectee notifications or letters by regular postal mail or by email. Should you receive an email notification or a mailed letter stating that you have been selected to receive a DV, be aware that the notification is not legitimate. Any email communication you receive from the Department of State will direct you to review Entrant Status Check for new information about your application. The Department of State will never ask you to send money by mail or by services such as Western Union.

17. May selectees adjust their status with USCIS?

Yes, provided they are otherwise eligible to adjust status under the terms of Section 245 of the INA, selected individuals who are physically present in the United States may apply to USCIS for adjustment of status to permanent resident. Applicants must ensure that USCIS can complete action on their cases, including processing of any overseas spouse or children under 21 years of age, before September 30, 2014, since on that date your eligibility for the DV-2014 program expires. No visa numbers for the DV-2014 program will be available after midnight EDT on September 30, 2014, under any circumstances.

18. Will entrants who are not selected be informed?

All entrants, including those not selected, may check the status of their entry through the Entrant Status Check on the E-DV Web site at www.dvlottery.state.gov to find out if their entry was or was not selected. Entrants must keep their own confirmation page information from the time of their entry until at least June 30, 2014. Status information for DV-2014 will be available online from May 1, 2013, through June 30, 2014. (Status information for the previous DV program, DV-2013, is available online from May 1, 2012, through June 30, 2013.)

19. How many individuals will be selected?

There are 50,000 DV visas available for DV-2014. Because it is likely that some of the first 50,000 persons who are selected will not qualify for visas or pursue their cases to visa issuance, more than 50,000 entries will be selected to ensure that all of the available DV visas are issued. However, this also means that there will not be a sufficient number of visas for all those who are initially selected. All applicants who are selected will be able to see whether they have been selected for further processing and their place on the list by checking the E-DV Web site's Entrant Status Check. Interviews for the DV-2014 program will begin in October 2013 for selectees who have submitted all pre-interview paperwork and other information as requested in the notification instructions. Selectees who provide all required information will be informed of their visa interview appointment through the E-DV Web site's Entrant Status Check four-to-six weeks before the scheduled interviews with U.S. consular officers at overseas posts. Each month, visas will be issued to those applicants who are ready for issuance during that month, visa-number availability permitting. Once all of the 50,000 DV visas have been issued, the program will end. In principle, visa numbers could be finished before September 2014. Selected applicants who wish to receive visas must be prepared to act promptly on their cases. Random selection as a selectee does not guarantee that you will receive a visa. Selection merely means that you are eligible to apply for a Diversity Visa, and if qualified, issued a Diversity Visa. Only the first 50,000 selected applicants to qualify will be issued visas.

20. Is there a minimum age for applicants to apply for the E-DV program?

There is no minimum age to apply for the program, but the requirement of a high school education or work experience for each principal applicant at the time of application will effectively disqualify most persons who are under age 18. Parents and siblings are ineligible to receive DV visas as dependents, and should not be included in the entry of the principal applicant.

21. Are there any fees for the E-DV program?

There is no fee for submitting an electronic entry. DV applicants must pay all required visa fees at the time of visa application and interview directly to the consular cashier at the U.S. Embassy or Consulate. Selected individuals who adjust status while in the United States will pay all required fees directly to USCIS. Details of required DV and immigrant visa application fees will be included with the instructions provided to applicants who are selected.

22. If I am selected and apply for the DV, but do not qualify to receive one, can I get a refund of the visa fees I paid?

Visa fees cannot be refunded. DV applicants must meet all qualifications for the visa as detailed in these instructions. If a consular officer determines an applicant does not meet requirements for the visa, or is otherwise ineligible for the DV under U.S. law, the officer cannot issue a visa and the applicant will forfeit all fees paid.

23. Do DV applicants receive waivers of any grounds of visa ineligibility or receive special processing for a waiver application?

Applicants are subject to all grounds of ineligibility for immigrant visas specified in the Immigration and Nationality Act (INA). There are no special provisions for the waiver of any ground of visa ineligibility aside from those ordinarily provided in the INA, nor is there special processing for waiver requests. Some general waiver provisions for people with close relatives who are U.S. Citizens or Lawful Permanent Resident aliens may be available to DV applicants as well, but the time constraints in the DV program will make it difficult for applicants to benefit from such provisions.

24. May persons who are already registered for an immigrant visa in another category apply for the DV program?

Yes, such persons may apply for the DV program.

25. How long do applicants who are selected remain entitled to apply for visas in the DV category?

Persons selected in the DV-2014 program are entitled to apply for visa issuance only during U.S. government Fiscal Year 2014, which spans from October 1, 2013, through September 30, 2014. Without exception, all selected and eligible applicants must obtain their visa or adjust status by the end of the fiscal year. There is no carry-over of DV benefits into the next year for persons who are selected but who do not obtain visas by September 30, 2014 (the end of the fiscal year). Also, spouses and children who derive status from a DV-2014 registration can only obtain visas in the DV category between October 1, 2013 and September 30, 2014. Applicants who apply overseas will receive an appointment notification from the Department through Entrant Status Check on the E-DV Web site four to six weeks before the scheduled appointment.

26. If an E-DV selectee dies, what happens to the DV case?

The death of a DV selectee results in automatic revocation of the DV case. Any eligible spouse and/or children will no longer be entitled to a DV visa for that entry.

27. When will E-DV be available online?

Online entry will be available during RegPeriod the registration period beginning at noon EDT (GMT-4) on Tuesday, October 2, 2012, and ending at noon EDT (GMT-4) on Saturday, November 3, 2012.

28. Will I be able to download and save the E-Dv Entry Form to a Microsoft Word Program (or other suitable program) and then fill it out?

No, you will not be able to save the form into another program for completion and submission later. The E-DV Entry Form is a Web form only. This makes it more “universal” than a proprietary word processor format. Additionally, it does require that the information be filled in and submitted while online.

29. If I don't have access to a scanner, can I send photographs to my relative in the United States to scan the photographs, save the photographs to a diskette, and then mail the diskette back to me to apply?

Yes, as long as the photograph meets the requirements in the instructions and is electronically submitted with, and at the same time as, the E-DV online entry. The applicants must already have the scanned photograph file when they submit the entry online. The photograph cannot be submitted separately from the online application. Only one online entry can be submitted for each person. Multiple submissions will disqualify the entry for that person for DV-2014. The entire entry (photograph and application together) can be submitted electronically from the United States or from overseas.

30. Can I save the Form online so that I can fill out part and then come back later and complete the remainder?

No. The E-DV Entry Form is designed to be completed and submitted at one time. However, because the form is in two parts, and because of possible network interruptions and delays, the E-DV system is designed to permit up to sixty (60) minutes between the form's download and when the entry is received at the E-DV Web site. If more than sixty minutes have elapsed and the entry has not been electronically received, the information already received is discarded. This is done so that there is no possibility that a full entry could accidentally be interpreted as a duplicate of a previous partial entry. The DV-2014 instructions explain clearly and completely what information is required to fill in the form. Thus, you can be fully prepared, making sure you have all of the information needed before you start to complete the form online.

31. If the submitted digital images do not conform to the specifications, the procedures state that the system will automatically reject the E-DV entry form and notify the sender. Does this mean I will be able re-submit my entry?

Since the entry was automatically rejected, it was not actually considered as a submission to the E-DV Web site, so, yes, the entry can be resubmitted. It does not count as a submitted E-DV entry, and no confirmation notice of receipt is sent. If there are problems with the digital photograph sent, because it does not conform to the requirements, it is automatically rejected by the E-DV Web site. However, the amount of time it takes the rejection message to reach the sender is unpredictable, given the nature of the Internet. If the applicant can fix the error, and the Form Part One or Two is re-sent within sixty (60) minutes, there is no problem. Otherwise, the applicant will have to restart the submission process. An applicant can try to submit an application as many times as is necessary until a complete application is received and the confirmation notice sent.

32. Will the electronic confirmation notice that the completed E-DV entry form has been received through the online system be sent immediately after submission?

The response from the E-DV Web site which contains confirmation of the receipt of an acceptable E-DV Entry Form is sent by the E-DV Web site immediately. However, the amount of time it takes the response to reach the sender is unpredictable, given the nature of the Internet and email systems. If many minutes have elapsed since pressing the “Submit” button, there is no harm in pressing the “Submit” button a second time. The E-DV system will not be confused by a situation where the “Submit” button is hit a second time, because no confirmation response has been received. An applicant can try to submit an application as many times as is necessary until a complete application is received and the confirmation notice sent. However, once you receive a confirmation notice, do not resubmit your information.

33. How do I report Internet fraud or unsolicited email?

If you wish to file a complaint about Internet fraud, please see the econsumer.gov Web site, hosted by the Federal Trade Commission, in cooperation with consumer-protection agencies from 17 nations (http://www.econsumer.gov/english). You may also report fraud to the Federal Bureau of Investigation (FBI) Internet Crime Complaint Center. To file a complaint about unsolicited email, visit the Department of Justice Contact Us page.

34. If I am successful in obtaining a visa through the DV program, will the U.S. government assist with my airfare to the United States, provide assistance to locate housing and employment, provide healthcare, or provide any subsidies until I am fully settled?

No, applicants who obtain a DV are not provided any type of assistance such as airfare, housing assistance, or subsidies. If you are selected to apply for a DV, you will be required to provide evidence that you will not become a public charge in the United States before being issued a visa. This evidence may be in the form of a combination of your personal assets, an Affidavit of Support (Form I-134) from a relative or friend residing in the United States, and/or an offer of employment from an employer in the United States.

List of Countries/Areas by Region Whose Natives Are Eligible for DV-2014

The list below shows the countries whose natives are eligible for DV-2014, grouped by geographic region. Dependent areas overseas are included within the region of the governing country. The countries whose natives are not eligible for the DV-2014 program were identified by USCIS, according to the formula in Section 203(c) of the INA. The countries whose natives are not eligible for the DV program (because they are the principal source countries of Family-Sponsored and Employment-Based immigration or “high-admission” countries) are noted after the respective regional lists.

Africa

Algeria

Angola

Benin

Botswana

Burkina Faso

Burundi

Cameroon

Cape Verde

Central African Republic

Chad

Comoros

Congo

Congo, Democratic Republic of the

Cote D'Ivoire (Ivory Coast)

Djibouti

Egypt

Equatorial Guinea

Eritrea

Ethiopia

Gabon

Gambia, The

Ghana

Guinea

Guinea-Bissau

Kenya

Lesotho

Liberia

Libya

Madagascar

Malawi

Mali

Mauritania

Mauritius

Morocco

Mozambique

Namibia

Niger

Nigeria

Rwanda

Sao Tome and Principe

Senegal

Seychelles

Sierra Leone

Somalia

South Africa

South Sudan

Sudan

Swaziland

Tanzania

Togo

Tunisia

Uganda

Zambia

Zimbabwe

Persons born in the Gaza Strip are chargeable to Egypt; persons born in the West Bank are chargeable to Jordan; persons born in the Golan Heights are chargeable to Syria.

Asia

Afghanistan

Bahrain

Bhutan

Brunei

Burma

Cambodia

East Timor

Hong Kong Special Administrative Region

Indonesia

Iran

Iraq

Israel

Japan

Jordan

Kuwait

Laos

Lebanon

Malaysia

Maldives

Mongolia

Nepal

North Korea

Oman

Qatar

Saudi Arabia

Singapore

Sri Lanka

Syria

Taiwan

Thailand

United Arab Emirates

Yemen

Natives of the following Asia Region countries are not eligible for this year's diversity program:

Bangladesh, China (mainland-born), India, Pakistan, South Korea, Philippines, and Vietnam. Hong Kong S.A.R., Macau S.A.R., and Taiwan do qualify and are listed above.

Persons born in the areas administered prior to June 1967 by Israel, Jordan, and Syria are chargeable, respectively, to Israel, Jordan, and Syria. Persons born in the Gaza Strip are chargeable to Egypt; persons born in the West Bank are chargeable to Jordan; persons born in the Golan Heights are chargeable to Syria.

Europe

Albania

Andorra

Armenia

Austria

Azerbaijan

Belarus

Belgium

Bosnia and Herzegovina

Bulgaria

Croatia

Cyprus

Czech Republic

Denmark (including components and dependent areas overseas)

Estonia

Finland

France (including components and dependent areas overseas)

Georgia

Germany

Greece

Hungary

Iceland

Ireland

Italy

Kazakhstan

Kosovo

Kyrgyzstan

Latvia

Liechtenstein

Lithuania

Luxembourg

Macau Special Administrative Region

Macedonia

Malta

Moldova

Monaco

Montenegro

Netherlands (including components and dependent areas overseas)

Northern Ireland

Norway

Poland

Portugal (including components and dependent areas overseas)

Romania

Russia

San Marino

Serbia

Slovakia

Slovenia

Spain

Sweden

Switzerland

Tajikistan

Turkey

Turkmenistan

Ukraine

Uzbekistan

Vatican City

Natives of the following European countries are not eligible for this year's DV program: Great Britain (United Kingdom). Great Britain (United Kingdom) includes the following dependent areas: Anguilla, Bermuda, British Virgin Islands, Cayman Islands, Falkland Islands, Gibraltar, Montserrat, Pitcairn, St. Helena, and Turks and Caicos Islands. Note that for purposes of the diversity program only, Northern Ireland is treated separately; Northern Ireland does qualify and is listed among the qualifying areas.

North America

The Bahamas

In North America, natives of Canada and Mexico are not eligible for this year's diversity program.

Oceania

Australia (including components and dependent areas overseas)

Fiji

Kiribati

Marshall Islands

Micronesia, Federated States of

Nauru

New Zealand (including components and dependent areas overseas)

Palau

Papua New Guinea

Solomon Islands

Tonga

Tuvalu

Vanuatu

Samoa

South America, Central America, and the Caribbean

Antigua and Barbuda

Argentina

Barbados

Belize

Bolivia

Chile

Costa Rica

Cuba

Dominica

Grenada

Guatemala

Guyana

Honduras

Nicaragua

Panama

Paraguay

Saint Kitts and Nevis

Saint Lucia

Saint Vincent and the Grenadines

Suriname

Trinidad and Tobago

Uruguay

Venezuela

Countries in this region whose natives are not eligible for this year's diversity program:

Brazil, Colombia, Dominican Republic, Ecuador, El Salvador, Haiti, Jamaica, Mexico, and Peru.

Dated: September 14, 2012.
Janice Jacobs,
Assistant Secretary for Consular Affairs, Department of State.

[FR Doc. 2012-23934 Filed 9-27-12; 8:45 am]

BILLING CODE 4710-06-P